DEPARTMENT OF LABOR

Employment and Training Administration

[NAFTA-06385]

Ameriphone, Inc., A Wholly Owned Subsidiary of Plantronics, Inc., Garden Grove, CA; Notice of Revised Determination on Remand; Withdrawal

SUMMARY: The Department of Labor is withdrawing an earlier revised notice, published in the Federal Register on April 20, 2004 (69 FR 21162-21163), pertaining to the Notice of Revised Determination on Remand of NAFTA-Transitional Adjustment Assistance (NAFTA-6385) for the workers of Ameriphone, Inc., a wholly owned subsidiary of Plantronics, Inc., Garden Grove, California (hereafter “Ameriphone”). For the reasons discussed below, the Department has decided to withdraw this revised notice.

DATES: This withdrawal is made on May 3, 2004.

FOR FURTHER INFORMATION CONTACT: Elliott S. Kushner, Certifying Officer, Division of Trade Adjustment Assistance, Employment and Training Administration, U.S. Department of Labor, Room C5311, 200 Constitution Avenue, NW., Washington, DC 20210, telephone (202) 693-3565. This is not a toll free number.

SUPPLEMENTARY INFORMATION: The Department is withdrawing the revised notice pertaining to the initial denial of NAFTA-Transitional Adjustment Assistance (NAFTA-6385) for the workers of Ameriphone, Inc., a wholly owned subsidiary of Plantronics, Inc., Garden Grove, California (hereafter “Ameriphone”). The revised notice, which was not intended to be a valid document, was inadvertently published on April 20, 2004 (69 FR 21162-21163).

A revised notice, pertaining to the subject facility, was previously corrected on September 9, 2003 and published in the Federal Register on September 17, 2003 (68 FR 54490) and is the valid decision applicable to workers of the subject facility.

Based on this review, the Department has decided to withdraw the revised notice published on April 20, 2004 (69 FR 21162-21163).

Document Preparation

This document was prepared under the direction and control of Elliott S. Kushner, Certifying Officer, Division of Trade Adjustment, Employment and Training Administration, U.S. Department of Labor.

Signed in Washington, DC this 27th day of April 2004.
Elliott S. Kushner,
Certifying Officer, Division of Trade Adjustment Assistance.

[FR Doc. E4-995 Filed 4-30-04; 8:45 am]

BILLING CODE 4510-13-P